DEPARTMENT OF COMMERCE

Patent and Trademark Office

Agency Information Collection Activities; Submission to the Office of Management and Budget (OMB) for Review and Approval; Fastener Quality Act Insignia Recordal Process

AGENCY: United States Patent and Trademark Office, Department of Commerce.

ACTION: Notice of information collection; request for comment.

SUMMARY: The United States Patent and Trademark Office (USPTO), in accordance with the Paperwork Reduction Act of 1995, invites comments on the extension and revision of an existing information collection: 0651-0028 (Fastener Quality Act Insignia Recordal). The purpose of this notice is to allow 60 days for public comment preceding submission of the information collection to OMB.

DATES: To ensure consideration, comments regarding this information collection must be received on or before March 16, 2021.

ADDRESSES: Interested persons are invited to submit written comments by any of the following methods. Do not submit Confidential Business Information or otherwise sensitive or protected information:

• Email: InformationCollection@upsto.gov. Include “0651-0028 comment” in the subject line of the message.

• Federal Rulemaking Portal: http://www.regulations.gov.

• Mail: Kimberly Hardy, Office of the Chief Administrative Officer, United States Patent and Trademark Office, P.O. Box 1450, Alexandria, VA 22313-1450.

FOR FURTHER INFORMATION CONTACT: Requests for additional information should be directed to Catherine Cain, Attorney Advisor, Office of the Commissioner for Trademarks, United States Patent and Trademark Office, P.O. Box 1450, Alexandria, VA 22313-1450; by telephone at 571-272-8946; or by email to Catherine.Cain@uspto.gov with “0651-0028 comment” in the subject line. Additional information about this information collection is also available at http://www.reginfor.gov under “Information Collection Review.”

SUPPLEMENTARY INFORMATION:

I. Abstract

Under Section 5 of the Fastener Quality Act (FQA) of 1999, (15 U.S.C. 5401 et seq.), certain industrial fasteners must bear an insignia identifying the manufacturer. It is also mandatory for manufacturers of fasteners covered by the FQA to submit an application to the USPTO for recordal of the insignia on the Fastener Insignia Register. The purpose of requiring both the insignia and the recordation is to ensure that certain fasteners can be traced to their manufacturers and to protect against the sale of mismarked, misrepresented, or counterfeit fasteners. The procedures for the recordal of fastener insignia under the FQA are set forth in 15 CFR 280.300 et seq.

This information collection covers data gathered in Applications for Recordal of Insignia and Applications for Renewal/Reactivation of Recordal Under the Fastener Quality Act. Insignias recorded with the USPTO may be sourced from an existing trademark registered at USPTO, from a trademark that is proposed in an application to obtain a registration currently before the USPTO, or from a unique alphanumeric designation issued upon request from the USPTO. After a manufacturer submits a complete application for recordal, the USPTO issues a Certificate of Recordal. These certificates remain active for 5 years. Applications to renew the certificates must be filed within 6 months of the expiration date or, upon payment of an additional surcharge, within 6 months following the expiration date.

If a recorded alphanumeric designation is assigned by the manufacturer to a new owner, the designation becomes “inactive” and the new owner must submit an application to reactivate the designation within 6 months of the date of assignment. If the recordal is based on a trademark application or registration and the registration is assigned to a new owner, the recordal becomes “inactive” and cannot be reassigned. Instead, the new owner of the trademark application or registration must apply for a new recordal. Manufacturers who record insignia must notify the USPTO of any changes of address.

III. Method of Collection

The items in this information collection can be submitted by email, mail, facsimile, or hand delivery to the USPTO.

III. Data

OMB Number: 0651-0028.

Form Numbers:

• PTO-1611 (Application for Recordal of Insignia or Renewal/Reactivation of Recordal Under the Fastener Quality Act)

Type of Review: Revision of a currently approved information collection.

Affected Public: Private sector.

Estimated Number of Respondents: 96 respondents per year.

Estimated Number of Responses: 96 responses per year.

Estimated Time per Response: The USPTO estimates that it will take the public approximately 30 minutes (0.5 hours) to gather the necessary information, prepare the form, and submit the request for recordal or renewal of a fastener insignia to the USPTO.

Estimated Total Annual Respondent Burden Hours: 48 hours.

Estimated Total Annual Respondent (Hourly) Cost Burden: $19,200.

Table 1—Total Hourly Burden for Private Sector Respondents
Item No. | Item | Estimated annual respondents | Estimated annual responses (year) | Estimated time for response (hour) | Estimated annual burden (hour/year) | Rate ¹ ($/hour) | Estimated annual burden
|  |  | (a) | (b) | (a) × (b) = (c) | (d) | (c) × (d) = (e)
1 | Applications for Recordal of Insignia or Renewal/Reactivation of Recordal Under the Fastener Quality Act | 96 | 96 | 0.5 | 48 | $400 | $19,200
| Totals | 96 | 96 |  | 48 |  | 19,200

Estimated Total Annual Non-hour Respondent Cost Burden: $2,136. There are no capital start-up, recordkeeping, or maintenance costs associated with this information collection. However, this information collection does have annual (non-hour) costs in the form of filing fees ($2,120) and postage costs ($16) for an estimated total of $2,136 per year.

¹ 2019 Report of the Economic Survey, published by the Committee on Economics of Legal Practice of the American Intellectual Property Law Association (AIPLA); https://www.aipla.org/detail/journal-issue/2019-report-of-the-economic-survey. The USPTO uses the mean rate for attorneys in private firms which is $400 per hour.

Customers may incur postage costs when submitting an application for recordal to the USPTO by mail. The USPTO expects that 2 items will be submitted by mail. As the average cost for a first-class Priority Express, legal envelope is $8.05, USPTO estimates that the postage costs for this information collection will total $16.

There are two filing fees associated with this information collection on shown in the table below.

Table 2—Total Non-Hour Respondent Cost Burden
Item No. | Item | Estimated annual responses | Cost amount | Total non-hour respondent cost burden
|  | (a) | (b) | (a) × (b) = (c)
1a | Filing an application for recordal of insignia or renewal/reactivation of recordal | 96 | $20.00 | $1,920
1b | Surcharge for filing 6 months after the expiration date—Filing an application for recordal of insignia or renewal/reactivation of recordal | 10 | 20.00 | 200
| Totals |  |  | 2,120

Respondent's Obligation: Required to obtain or retain benefits.

IV. Request for Comments

The USPTO is soliciting public comments to:

(a) Evaluate whether the proposed collection of information is necessary for the proper performance of the functions of the Agency, including whether the information will have practical utility;

(b) Evaluate the accuracy of the Agency's estimate of the burden of the proposed collection of information, including the validity of the methodology and assumptions used;

(c) Enhance the quality, utility, and clarity of the information to be collected; and

(d) Minimize the burden of the collection of information on those who are to respond, including through the use of appropriate automated, electronic, mechanical, or other technological collection techniques or other forms of information technology, e.g., permitting electronic submission of responses.

All comments submitted in response to this notice are a matter of public record. USPTO will include or summarize each comment in the request to OMB to approve this information collection. Before including an address, phone number, email address, or other personal identifying information in a comment, be aware that the entire comment—including personal identifying information—may be made publicly available at any time. While you may ask in your comment to withhold personal identifying information from public view, USPTO cannot guarantee that it will be able to do so.

Kimberly Hardy,
Information Collections Officer, Office of the Chief Administrative Officer, United States Patent and Trademark Office.

[FR Doc. 2021-00933 Filed 1-14-21; 8:45 am]

BILLING CODE 3510-16-P